DEPARTMENT OF COMMERCE

National Oceanic and Atmospheric Administration

RIN 0648-XF961

Western Pacific Fishery Management Council (Council); Public Meeting

AGENCY: National Marine Fisheries Service (NMFS), National Oceanic and Atmospheric Administration (NOAA), Commerce.

ACTION: Notice; public meeting.

SUMMARY: The Western Pacific Stock Assessment Review (WPSAR) Steering Committee will convene a public meeting to discuss and approve the 5-year calendar for stock assessments, and to address any other concerns related to the WPSAR process.

DATES: The Steering Committee will meet from 9 to 11 a.m. on April 3, 2019.

ADDRESSES: The meeting will be at the Council office, 1164 Bishop St., Suite 1400, Honolulu, HI 96813.

FOR FURTHER INFORMATION CONTACT: Marlow Sabater, (808) 522-8143, or marlowe.sabater@noaa.gov.

SUPPLEMENTARY INFORMATION: The WPSAR steering committee consists of the Council's Executive Director, the Director of the NMFS Pacific Islands Fisheries Science Center, and the Regional Administrator of the NMFS Pacific Islands Regional Office. You may read more about WPSAR at https://www.pifsc.noaa.gov/peer_reviews/wpsar/index.php.

The public will have an opportunity to comment during the meeting. The agenda order may change. The meeting will run as late as necessary to complete scheduled business.

Meeting Agenda

1. Introductions.

2. Discuss stock assessment prioritization process.

3. Discuss and update the 5-year stock assessment review schedule, including any changes to the scheduling of reviews for stock assessments already on the calendar, and any new additions to the schedule.

a. Potential additions.

i. Main Hawaiian Islands (MHI) Precious coral (maximum sustainable yield (MSY) from Grigg, 2004 for Auau channel black coral).

ii. MHI Deepwater shrimp (MSY from Tagami and Ralston, 1988).

4. Discuss and update review levels, i.e., whether the stock assessments on the calendar will be reviewed as benchmark assessments (new assessments) or assessment updates (updates of existing models with recent data).

5. Review the upcoming schedule and nominate additional products for review by the Center for Independent Experts, if necessary.

6. Public Comment.

Special Accommodations

The meeting is physically accessible to people with disabilities. Make direct requests for sign language interpretation or other auxiliary aids to Marlowe Sabater at (808) 522-8143 or marlowe.sabater@noaa.gov, at least 5 days prior to the meeting date.

Authority: 16 U.S.C. 1801 et seq.

Dated: March 8, 2019.
Alan D. Risenhoover,
Director, Office of Sustainable Fisheries, National Marine Fisheries Service.

[FR Doc. 2019-04644 Filed 3-12-19; 8:45 am]

BILLING CODE 3510-22-P